DEPARTMENT OF JUSTICE

Notice of Lodging of Proposed Consent Decree Under the Clean Water Act

On January 29 and 30, 2024, the Department of Justice filed a Complaint under the Clean Water Act and lodged a proposed Consent Decree with the United States District Court for the Western District of Oklahoma in the lawsuit entitled United States of America v. Holly Energy Partners-Operating, L.P., et al., Civil Action No. 5:24-cv-00107.

The Complaint alleges that the defendants, Dallas, Texas-based Holly Energy Partners-Operating, L.P., and Osage Pipe Line Company LLC, are civilly liable for violations of section 309 and 311 of the Clean Water Act, 33 U.S.C. 1319, 1321. The Complaint addresses the discharge of about 300,000 gallons of crude oil from the Osage pipeline into Skull Creek near Cushing, Oklahoma, on July 8, 2022. Osage Pipe Line Company owns the 135-mile-long, 20-inch-diameter pipeline that transports crude oil from a tank farm in Cushing, Oklahoma, to the HollyFrontier refinery in El Dorado, Kansas. Holly Energy Partners-Operating is the operator of the pipeline.

The Complaint alleges the spill occurred when a segment of the pipeline ruptured adjacent to Skull Creek about five miles north of Cushing. From the point of the discharge, Skull Creek flows about three more miles before entering the Cimarron River. The pipeline was operating at the time of the rupture and discharged about 300,000 gallons (7,110 barrels) of crude oil into the creek. The land where the rupture occurred, and the adjacent downstream parcel that the creek runs through, are both allotment lands owned by members of the Sac and Fox Nation.

Under the proposed Consent Decree, the companies will pay $7.4 million in civil penalties. The Consent Decree also requires the defendants to perform corrective measures to remedy the violations. The companies will be required to complete the cleanup and remediation of the impacted area, improve their pipeline integrity management program, provide additional training for all their control room operators, expand their spill notification efforts for tribal governments with land interests within the footprint of the pipeline, and submit periodic compliance reports to the Environmental Protection Agency and the Department of Justice.

The penalties paid in this case will be deposited in the federal Oil Spill Liability Trust Fund managed by the National Pollution Funds Center. The Oil Spill Liability Trust Fund is used to pay for federal response activities and to compensate for damages when there is a discharge or substantial threat of discharge of oil or hazardous substances to waters of the United States or adjoining shorelines.

The publication of this notice opens a period for public comment on the proposed Consent Decree. Comments should be addressed to the Assistant Attorney General, Environment and Natural Resources Division, and should refer to United States of America v. Holly Energy Partners-Operating, L.P., et al., D.J. Ref. No. 90-5-1-1-12810. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed Consent Decree may be examined and downloaded at this Justice Department website: https://www.justice.gov/enrd/consent-decrees. If you require assistance accessing the Consent Decree, you may request assistance by email or by mail to the addresses provided above for submitting comments.

Thomas Carroll,
Assistant Section Chief, Environmental Enforcement Section, Environment and Natural Resources Division.

[FR Doc. 2024-02339 Filed 2-5-24; 8:45 am]

BILLING CODE 4410-15-P